DEPARTMENT OF JUSTICE

Membership of the Senior Executive Service and Senior Level Standing Performance Review Boards

AGENCY: Department of Justice.

ACTION: Notice of Department of Justice's standing members of the Senior Executive Service and Senior Level Performance Review Boards.

SUMMARY: Pursuant to agency regulations, the Department of Justice announces the membership of its 2021 Senior Executive Service (SES) and Senior Level (SL) Standing Performance Review Boards (PRBs). The purpose of the PRB is to provide fair and impartial review of SES and SL performance appraisals; make recommendations to the appointing authority concerning performance ratings, performance awards, and performance-based pay adjustments; and review and revise, as appropriate, executive development plans.

FOR FURTHER INFORMATION CONTACT: Shawn Flinn, Director, Human Resources, Justice Management Division, Department of Justice, Washington, DC 20530; (202) 514-4350.

Lee J. Lofthus,
Assistant Attorney General for Administration.

2021 Federal Register

List of Names (Alphabetical Order)

Adan Jr., Angel L.

Adkins Blanch, Charles K.

Ainsworth, Peter J.

Alexander, Samuel C.

Alexandre, Carl

Alvarez, Christopher C.

Amundson, Corey R.

Anderson, Jill W.

Antell, Kira

Antonelli, Bryan M.

Armington, Elizabeth J.

Ary, Vaughn A.

Ashton, Robin C.

Ayers, Nancy L.

Bain, John A.

Ballweg, Mitchell J.

Baltazar Jr., Juan

Barnes, Nanette F.

Barsky, Seth M.

Beard Jr., Harold A.

Beasley, Gene D.

Beasley, John A.

Beasley, Roger L.

Beemsterboer, Joseph S.

Bell, Suzanne L.

Belsan, Timothy M.

Bennett, Megan A.

Benson, Barry F.

Bergami, Thomas E.

Berger Sr., William B.

Bewtra, Aneet K.

Bhattacharyya, Rupa

Birney, William J.

Blue, Matthew

Blumberg, Mark

Board Jr., Daniel L.

Bohling, James C.

Bolden, Scott D.

Boncher, Amy A.

Bond, Rebecca B.

Booth, David S.

Boshek II, Jeffrey C.

Boykin, Lisa T.

Boynton, Brian M.

Braden, Myesha K.

Bradley, Eric W.

Bradley, Patricia V.

Brady, Kelly D.

Bratt, Jay I.

Brink, Patricia A.

Broshow, Brent L.

Brown Cutlar, Shanetta Y.

Brown Jr., Robert M.

Brown, Shannon B.

Brown, Walter W.

Bruffy, Robert L.

Bruner, Jarrod D.

Bryden II, James

Burke, Gregory

Burns, Loneryl C.

Burns, Richard

Byron III, Henry Thomas

Cain, James W.

Campbell, Dianne M.

Carlin, John P.

Carlton, Eugene K.

Carney, Christopher J.

Carpenter, Eleanor A.

Carr, Michael J.

Carroll, Ovie L.

Carvajal, Michael D.

Carwile, P. Kevin

Cekada, Robert

Chambers, Kevin A.

Chandler, Thomas E.

Chavez, Sonya K.

Cheatham, Roy C.

Cheng, Mary M.

Chilakamarri, Varudhini

Chittum III, Thomas L.

Ciolli, Andrew Michael

Clarke, Russell S.

Cobar, Marlon

Cohen, Adam W.

Colangelo, Matthew B.

Coley, Anthony D.

Collier, Andrew T.

Connolly Jr., Robert L.

Connor, Deborah L.

Conrath, Craig W.

Cook, Terence L.

Coppolino, Anthony J.

Cox, Jason W.

Cox, Kevin S.

Cypher, Owen M.

Czarnopys, Gregory P.

D'Alessio Jr., Carmine S.

Daly, Mark F.

Damelin, Scott R.

Dammers, Kim S.

Danks, Ryan J.

Daugherty, Daniel J.

Dauphin, Dennis E.

Davidson, Jeanne E.

Davies, Susan M.

Davis, Nanette L.

Debonis, Dena I.

Deir, James M.

Demarco, Vincent F.

Detineo, Kristen E.

Devito, John B.

Dickinson, Lisa M.

Dintzer, Kenneth M.

Dixon, Robert A.

Dobbs, Bryan K.

Dohman, Ramona L.

Douglas, Nathaniel

Downing, Richard W.

Drennan, Ronald

Driscoll, Kevin O.

Drouet, Suzanne.

Ducot, Gregory E.

Dugger, Ashley

Dunlap, James L.

Dunne, Steven M.

Dworkin, Karen S.

Ehrenstamm, Faye S.

Elliott, Peter J.

Elliott, Ramona D.

Embrey, Diana L.

Emerson, Catherine V.

English, Nicole

Epstein, Eric M.

Eyler, Gustav

Familant, Norman

Feigin, Eric J.

Feldt, Dennis G.

Felte Jr., James F.

Ferguson, Cynthia

Figures, Shomari C.

Finley, Scott T.

Fitzgerald, Paige M.

Fitzpatrick, Jeanette P.

Flentje, August E.

Fleshman, James M.

Fletcher, Brian H.

Flinn, Shawn O.

Foran, Sheila M.

Forcelli, Peter J.

Fountain, Dorothy B.

Frande, Francis H.

Frattarelli, Angelo A.

Fredricks, James J.

Freeman, Mark R.

French, Mickey L.

Friel, Gregory B.

Funston, Robin S.

Gaeta, Joseph R.

Gannon, Curtis E.

Gardner, Joshua E.

Garrison, John M.

Garry, Eileen M.

Gartner, Eric S.

Gary, Arthur E.

Gelber, Bruce S.

Gerido, Steven L.

Geter, Linda

Gette, James D.

Gilbert, Curtis W.

Gilley, John M.

Gilligan, James J.

Ginsburg, Jessica

Glad, Daniel W.

Glynn, John P.

Gold, Victoria R.

Goldberg, Richard N.

Goldberg, Stuart M.

Goldfoot, Josh

Goldfrank, Andrew M.

Goldsmith, Andrew D.

Gomez, Christopher L.

Gonzales, David P.

Goodlander, Margaret V.

Gorman, Patrick T.

Graham, Andrew R.

Granston, Michael D.

Greenfeld, Helaine A.

Griffin Jr., Thomas M.

Griffith, L. Cristina

Griffiths, John R.

Grishaw, Letitia J.

Grocki, Steven J.

Guttentag, Lucas E.

Haar, Daniel E.

Haas, Alexander K.

Hagley, Judith A.

Hanson, Alan R.

Hardee, Norman C.

Harrington, Sarah E.

Harris, Deborah L.

Harris, Kenneth J.

Hart, Rosemary A.

Harvey, Ruth A.

Haungs, Michael J.

Hausken, Gary L.

Heinzelman, Kate E.

Heminger, Justin D.

Henderson, William T.

Hendrix, Dewayne

Henneberg, Maureen A.

Hensley, Henry V.

Herndon Jr., Roland H.

Herren Jr., Thomas C.

Herrup, Paul M.

Hickey, Adam

Hicks, Pamela J.

Himmelhoch, Sarah D.

Hoag, Aaron D.

Hoang, Anthony P.

Hockey Jr, Martin F.

Hodge, Jennifer A. H.

Ho-Gonzalez, William

Howard, Catricia L.

Howe, Susan E.

Hubbert, David A.

Hudgins, Richard A.

Hudson Jr., Donald J.

Hughes, Alphonso J.

Hughes, Johnny L.

Hughes, Michael A.

Hulser, Raymond N.

Huntley, Colin M.

Hyle, Kenneth.

Jaffe, David L.

Jenkins II, Wiley Z.

Johnsen, Dawn E.

Johnson, Cory A.

Johnson, Rachel R.

Jones, Chyrl

Jones, Joseph M.

Jones, Kevin R.

Jones, Timothy W.

Jordan, Jonathan D.

Joyner, Hector E.

Kallis, Steven J.

Kane, Thomas R.

Kanter, Ethan B.

Karp, David J.

Katinsky, David M.

Keener, Donald E.

Keller, Jeffery A.

Keller, John D.

Kelly, Karen

Kelly, Richard T.

Kelton, Zachary J.

Kendall, Paul F.

Kendler, Owen M.

Kennedy, John L.

Kilbourne, James C.

King, Damon A.

Kisor, Colin A.

Klapper, Matthew B.

Kleppinger, Eric D.

Kneedler, Edwin S.

Koffsky, Daniel L.

Krueger, Jeffrey E.

Kumar, Manish

Ladner Jr., Robert D.

Lan, Iris

Langsam, Stefanie G.

Larson, Kari M.

Latour, Michelle E.

Lauder, George H.

Lauria, Jolene A.

Lawrence, David G. B.

Leadingham, Mickey

Lederman, Martin S.

Lepore, Robert A.

Lin, Jean

Lindquist III, John A.

Lipshultz, Jon M.

Liskamm, Amanda N.

Loeb, Emily M.

Lofthus, Leon J.

Lopez, Louis

Lothrop Jr., William W.

Lovett Jr., Stanley A.

Ludwig, Stacy M.

Lynch Jr., John T.

Lyons, Samuel R.

Ma At, Sekou

Mackelburg, William E.

Macklin, James

Mactough, Melissa D.

Madan, Rafael A.

Mahan, Ellen M.

Mahoney, Kristen

Majeed, Sameena S.

Malphrus, Garry D.

Maltby, Jeremy

Manhardt, Kirk T.

Mao, Andy J.

Mariani Jr., Thomas A.

Marshall, Lynda K.

Martin, Dana J.

Martin, Ralph E.

Martinez Jr., Felipe Q.

Masling, Mark S.

Matevousian, Andre V.

Mathias, Karl S.

Matthews-Johnson, Tamarra D.

Mattos Jr., Juan

Maxey, Peter M.

McCarty, Margaret S.

McConkey Jr, Milton G.

McConnell, Christopher L.

McConnell, David M.

McDaniel, Mason B.

McDermond, James E.

McGrath, Brian E.

McHenry III, James R.

McHenry, Teresa L.

McIntosh, Scott R.

McLearen, Alix M.

McNulty, Sheila

McPherson, Jonathan T.

McQuaid, Nicholas L.

Mehta, Aditi M.

Meland, Deborah S.

Melton, Jennifer T.

Mergen, Andrew C.

Merkle, Phillip K.

Messersmith, Cynthia.

Milanowski Jr., Frederick J.

Milusnic, Louis J.

Molina Jr., Ernesto H.

Moossy, Robert J.

Morrow, Robert S.

Mulcahy, Valarie D.

Muoio Jr., Joseph

N Diaye, Lamine

Naccarato, Thomas M.

Netter, Brian D.

Newman, David A.

Nguyen, Vu T.

Nichols, Dana K.

Nunez, Celinez

O'Brien, Holley B.

O'Brien-Rogan, Carole A.

O'Connor, Kevin J.

O'Connor, Patrick T.

O'Hearn, Donald P.

O'Malley, Barbara B.

O'Neill, Kathleen S.

Ocasio, Wilmer

O'Connor, Thomas M.

O'Keefe, Donald M.

Okula, Stanley J.

Olds, Hope S.

Ortiz, David E.

Owens, Angela M.

Padden, Thomas W.

Pallozzi, Vincent C.

Pamerleau, Susan L.

Pane, Martin J.

Patterson, Charlie J.

Paul, Charles D.

Peachey, William C.

Pearlman, Heather L.

Pellegrino, Whitney M.

Pelletier, Jonathan

Perkins, Paul Randolph.

Peterson, Amanda M.

Petrucci, James C.

Phelps, Alan J.

Phelps, Shannon W.

Pincus, David I.

Pinon, Gabriel R.

Pittella, Mark P.

Pleasants, Darek G.

Pliler, William S.

Pollock, Nathaniel

Poole, Jason H.

Poux Jr., Joseph A.

Powers, Richard A.

Prelogar, Elizabeth B.

Price Jr., Marvin N.

Pride Jr., Theron P.

Proffitt, Nick E.

Pullen, Jeffrey D.

Quay III, Herman E.

Quinn, Michael J.

Raab, Michael S.

Ragsdale, Jeffrey R.

Raish, Anne S.

Randall, Allison L.

Rao, Arun G.

Rao, Sangita K.

Rardin, Jared D.

Ratliff, Gerri L.

Reich, Mitchell

Reid, Lauren A.

Reno, Tamara L.

Richardson, Marvin G.

Ricketts, Jennifer D.

Rios, Melissa V.

Rivers, Christopher A.

Robins, Jeffrey S.

Robinson, Roberto I.

Rodriguez, Mary D.

Roessner, Joel J.

Rogers, Melinda

Roper, Matthew J.

Rosenbaum, Eli M.

Rosenbaum, Steven H.

Rossi, Rachel A.

Rothstein, Julius

Rouse, Katrina H.

Ruisanchez, Alberto J.

Rush, Regan L.

Russell, Lisa L.

Sanz Rexach, Gabriel R.

Sawyer, Thomas

Scarantino, Thomas J.

Scheele, Scott A.

Scherer, Jennifer M.

Schofield, Gary G.

Schroeder, Christopher H.

Schwei, Daniel S.G.

Seidman, Ricki L.

Sergi, Joseph A.

Serralta, Gadyaces S.

Seward, Jon M.

Shapiro, Elizabeth J.

Shatz, Eileen M.

Shaw, Cynthia K.

Sheehan, John P.

Sheehey, Kathryn D.

Short, Tracy L.

Simons, Shaheena A.

Singdahlsen, Jeffrey P.

Singer III, Frank J.

Singer, David

Singh, Anita

Smith, Andrew C.

Smith, Corey J.

Smith, David L.

Smith, Johnathan J.

Smith, Linda H.

Smith, Michael D.

Smith, Richard D.

Smith, Rufus J.

Snell, Robert S.

Solomon, Amy L.

Sooknanan, Sparkle L.

Sozio, Ralph

Sproul, Daniel A.

Stafford, Steven C.

Stamos, Theophani K.

Stehlik, Noreene C.

Stemler, Patty M.

Stern, Mark B.

Stewart, Howard P.

Stewart, Malcolm L.

Streeval, Jason C.

Sullivan, John E.

Swartz, Bruce C.

Swingle, Sharon M.

Talebian, Bobak

Tellez, Heriberto H.

Tenenbaum, Alan S.

Tenorio, Christopher

Thielhorn, Kurt H.

Thiemann, Robyn L.

Thompson, Sonya D.

Tobin, Peter C.

Toledo, Randy

Toomey, Kathleen T.

Toscano Jr., Richard A.

Toscas, George Z.

Touhey Jr., James G.

Toulou, Tracy S.

Trate, Bradley M.

True III, William P.

Tsao, Leo

Tulley, Kalina M.

Tyler, Jeffrey R.

Ugolini, Francesca

Underwood Jr., John D.

Vanderplow, Paul D.

Varisco, Matthew P.

Villegas, Monique Y.

Virtue, Timothy R.

Von Blanckensee, B.

Walker, Heather

Ward, Lisa A.

Ward, Nickolous

Ward, Richard R.

Watson, Marcus S.

Watson, Thomas J.

Weaver, David A.

Weaver, James E.

Weinsheimer, G. Bradley

Weiss, Daniel H.

Welsh, Eric D.

Wertz, Rebecca J.

Wetmore, David H.

Wheeler, Nathaniel H.

White III, Clifford J.

Wiegmann, John B.

Wilder, Jeffrey M.

Wilkerson, Kirsten L.

Wilkinson, Robert M.

Williams, Eric

Williams, Jean E.

Wills, James C.

Winn, Peter A.

Winston, Frederic D.

Withers, Shannon D.

Woldemariam, Wintta M.

Wolfson, Paul R. Q.

Wong, Norman Y.

Woodard, Karen D.

Woods, William L.

Wroblewski, Jonathan J.

Wszalek, Larry J.

Wyatt, Arthur G.

Wyderko, Joseph C.

Yancey, Mark A.

Yasuda, Kevin

Yates, John P.

Yavelberg, Jamie A.

Yeager, Michael S.

Young, David L.

Young, William S.

Zubrensky, Michael A.

[FR Doc. 2021-21341 Filed 9-30-21; 8:45 am]

BILLING CODE 4410-CH-P